DEPARTMENT OF JUSTICE

[AAG/A Order No. 001-2003]

Privacy Act of 1974; Systems of Records

On November 25, 2002, the President signed into law the Homeland Security Act of 2002, Pub. L. 107-296, 116 Stat. 2135 (2002). Under Title XI, Subtitle B of the Act, the “authorities, functions, personnel, and assets” of the Bureau of Alcohol, Tobacco, and Firearms are transferred to the Department of Justice, with the exception of certain enumerated authorities that were retained by the Department of the Treasury. The functions retained by the Department of the Treasury are the responsibility of a new Alcohol and Tobacco Tax and Trade Bureau. Section 1111 of the Homeland Security Act further provides that the Bureau will retain its identity as a separate entity within the Department of Justice known as the Bureau of Alcohol, Tobacco, Firearms, and Explosives (ATF). The transfer takes effect January 24, 2003.

In accordance with the requirements of the Privacy Act of 1974, as amended, 5 U.S.C. 552a, ATF is publishing its Privacy Act systems of records and converting certain ATF systems of records from Department of the Treasury systems to Department of Justice systems pursuant to the reorganization and transfer of ATF to the Department of Justice.

ATF is designating the following systems of records as Department of Justice systems: ATF-001, Administrative Record System; ATF-003, Criminal Investigation Report System; ATF-006, Internal Security Record System; ATF-007, Personnel Record System; ATF-008, Regulatory Enforcement Record System; ATF-009, Technical and Scientific Services Record System; and ATF-010, Training and Professional Development System. ATF-010, Training and Professional Development Records, is a new notice covering non-federal training participants. ATF-006, Internal Security Record System, was previously published and in effect through 1998, when it was deleted as covered by a Department of the Treasury System notice, Treasury-007, Personnel Security System. Because ATF will no longer be covered by the Treasury notice, the ATF notice for Internal Security Record System-006 is being republished. All other systems notices were previously published by ATF and have been continuously in effect.

There has been no change in the maintenance or operations of the systems of records by ATF. Rather, these systems notices are being published to reflect the transfer of ATF to the Department of Justice. Some revisions were made to update authorities, to clarify certain descriptions of categories, and to revise or add routine uses in accordance with Department of Justice format and practices. A routine use is also being added to allow disclosures to the Treasury Department, Alcohol and Tobacco Tax and Trade Bureau employees, when necessary to accomplish a Department of Justice or Department of the Treasury function related to the system of records. Disclosures will not be made under the new system of records or under new routine uses until after the 30-day comment period, except with respect to disclosures to employees of the Alcohol and Tobacco Tax and Trade Bureau who have a need for the records in the performance of their duties during the transition. Such disclosures will be treated as intra-agency disclosures for purposes of section 552a(b)(1) of the Privacy Act.

The publication of these systems of records as Justice systems does not rescind the Treasury/ATF systems of records, as they govern the Alcohol and Tobacco Tax and Trade Bureau within the Department of the Treasury.

Due to the transfer to the Department of Justice, the following Department of Justice Department-wide notices are applicable to ATF: DOJ-001, Accounting Systems for the Department of Justice; DOJ-002, Department of Justice Computer Systems Activity and Access Records; DOJ-003, Correspondence Management Systems for the Department of Justice; DOJ-004, Freedom of Information Act, Privacy Act, and Mandatory Declassification Review Requests and Administrative Appeals for the Department of Justice; DOJ-005, Nationwide Joint Automated Booking System; DOJ-006, Personnel Investigation and Security Clearance Records for the Department of Justice; DOJ-007, Reasonable Accommodations for the Department of Justice; Justice/JMD-005, Grievance Records; Justice/JMD-017, Department of Justice Employee Transportation Facilitation System; Justice/JMD-012, Department of Justice Call Detail Records and Justice/DAG-011, Miscellaneous Attorney Personnel Records System.

A comment period will be held for the systems of records published by ATF today. In accordance with 5 U.S.C. 552(e)(4) and (11), the public is given a 30-day period in which to comment; and the Office of Management and Budget (OMB), which has oversight responsibility under the Act, requires a 40-day period in which to conclude its review of the systems. Therefore, please submit any comments by February 24, 2003. The public, OMB, and Congress are invited to submit any comments to Mary E. Cahill, Management and Planning Staff, Justice Management Division, Department of Justice, Washington, DC 20530 (Room 1400 National Place Building).

In accordance with 5 U.S.C. 552a(r), the Department has provided a report to OMB and the Congress.

Dated: January 17, 2003.
Paul R. Corts,
Assistant Attorney General for Administration.

Table of Contents

ATF-001—Administrative Record System

ATF-003—Criminal Investigation Report System

ATF-006—Internal Security Record System

ATF-007—Personnel Record System

ATF-008—Regulatory Enforcement Record System

ATF-009—Technical and Scientific Services Record System

ATF-010—Training and Professional Development Record System

JUSTICE/ATF-001

System name:

Administrative Record System-Justice/ATF-001.

SYSTEM LOCATION:

Bureau of Alcohol, Tobacco, Firearms and Explosives (ATF), 650 Massachusetts Avenue, NW., Washington, DC 20226. Components of this record system are geographically dispersed throughout the Bureau's field offices. A list of field offices is available by writing to the Chief, Disclosure Division, Room 8400, 650 Massachusetts Avenue, NW., Washington, DC 20226.

Categories of individuals covered by the system:

(1) Present employees of the Bureau of ATF. (2) Former employees of the Bureau of ATF. (3) Claimants against the Bureau of ATF.

Categories of records in the system:

Documents related to claims submitted including: (1) Accident Report—vehicle; (2) Fatality reports; (3) Injury reports; (4) Chief Counsel and District Counsel memoranda and opinions.

Authority for maintenance of the system:

(1) Federal Claims Collection Act. (2) Federal Property and Administration Services Act of 1949, as amended. (3) Federal Tort Claims Act. (4) Military Personnel and Civilian Claims Act. (5) Occupational Safety and Health Act of 1970. (6) Small Claims Act. (7) 5 U.S.C. 1302, 3301, 3302.

Purpose(s):

The purpose of this system is to resolve claims submitted to the Bureau of Alcohol, Tobacco, Firearms and Explosives.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations to the extent necessary to obtain relevant information needed by the Bureau to render a decision in regard to an administrative matter.

N. To Treasury Department, Alcohol and Tobacco Tax and Trade Bureau employees, when necessary to accomplish a Treasury Department or Department of Justice function related to this system of records.

O. To unions recognized as exclusive bargaining representatives in accordance with provisions contained in the Civil Service Reform Act of 1978, 5 U.S.C. 7111 and 7114.

P. To complainants and/or victims to the extent necessary to provide such persons with information and explanations concerning the progress and/or results of the investigation or case arising from the matters of which they complained and/or of which they were a victim.

Policies and practices for storing, retrieving, accessing, retaining, and disposing of records in the system:

Storage:

Active records are stored in file folders in security filing cabinets. Inactive records are stored in file folders at Federal Records Centers. Records are also stored in electronic media.

Retrievability:

Records are retrieved by name of individual.

Safeguards:

Direct access is restricted to personnel in the Department of Justice in the performance of their duty. Records are transmitted to routine users on a need to know basis or where a right to access is established, and to others upon verification of the substance and propriety of the request. These records are stored in lockable metal file cabinets in rooms locked during non-duty hours. The records stored in electronic media are password protected.

Retention and disposal:

Records are retained in accordance with General Records Schedules Numbers 1 through 23 issued by the National Archives and Records Administration, and Bureau of Alcohol, Tobacco, Firearms and Explosives records control schedules numbers 101 and 201 and disposed of by shredding or burning.

System manager(s) and address:

Assistant Director, Office of Management/Chief Financial Officer, Bureau of Alcohol, Tobacco, Firearms and Explosives, 650 Massachusetts Avenue, NW., Washington, DC 20226.

Notification procedure:

See “Record access procedures” below.

Record access procedures:

For records accessible through the Privacy Act, a request should be made in writing and mailed to the Disclosure Division, Privacy Act Request, Bureau of Alcohol, Tobacco, Firearms and Explosives, 650 Massachusetts Avenue, NW., Washington, DC 20226. The envelope and the letter should be clearly marked “Privacy Access Request.” The request should include a general description of the records sought and must include the requester's full name, current address, and date and place of birth. The request must be signed, dated, and either notarized or submitted under penalty of perjury.

Contesting record procedures:

Individuals desiring to contest or amend information maintained in the system should direct their request according to the Record Access procedures listed above, stating clearly and concisely what information is being contested, the reasons for contesting it, and the proposed amendment to the information sought. Some information is not subject to amendment, such as tax return information.

Record source categories:

(1) Administrative records; (2) Claimants; (3) Doctors; (4) Employee records; (5) Fiscal records; (6) Former employees of the Bureau of ATF; (7) Former employers; (8) General Services Administration; (9) Individuals who have information relevant to claims; (10) Inspections records; (11) Internal Investigation reports; (12) Police reports; (13) Present employees of the Bureau of ATF; (14) Supervisors; (15) Witnesses; (16) Insurance companies.

Exemptions claimed for the system:

None.

Justice/ATF-003

System name:

Criminal Investigation Report System, Justice/ATF-003.

System location:

Bureau of Alcohol, Tobacco, Firearms and Explosives, 650 Massachusetts Avenue, NW., Washington, DC 20226. Components of this record system are geographically dispersed throughout Bureau of Alcohol, Tobacco, Firearms and Explosives' field offices. A list of field offices is available by writing to the Chief, Disclosure Division, Room 8400, 650 Massachusetts Avenue, NW., Washington, DC 20226.

Categories of individuals covered by the system:

(1) Criminal offenders or alleged criminal offenders acting alone or in concert with other individuals and suspects who have been or are under investigation for a violation or suspected violation of laws enforced by the Bureau; (2) Criminal offenders or alleged criminal offenders acting alone or in concert with individuals who have been referred to the Bureau of Alcohol, Tobacco, Firearms and Explosives by other law enforcement agencies, governmental units or the general public; (3) Informants; (4) Persons who come to the attention of the Bureau in the course of criminal investigations; (5) Persons who have been convicted of a crime punishable by imprisonment for a term exceeding one year and who have applied for relief from disabilities under Federal law with respect to the acquisition, receipt, transfer, shipment, or possession of firearms and explosives and whose disability was incurred by reason of such conviction; (6) Victims of crimes; (7) Witnesses.

Categories of records in the system:

(a) Records containing information compiled for the purpose of identifying individual criminal offenders and alleged offenders and consisting of identifying data and notations of arrest, the nature and disposition of criminal charges, sentencing, confinement, release, and parole and probation status; (b) Records containing information compiled for the purpose of a criminal investigation, including reports of informants and investigators, and associated with an identifiable individual; (c) Records containing reports identifiable to an individual compiled at various stages of the process of enforcement of criminal laws from arrest or indictment through release from supervision; (d) Records compiled and maintained by the Bureau as generally described in (a), (b), and (c) above including the following: (1) Abandoned property reports; (2) ATF Criminal Investigation Reports; (3) ATF referrals to foreign, Federal, state, and local law enforcement agencies; (4) Chief and Regional Counsel opinions; (5) Contemporaneous investigative notes; (6) Criminal investigatory correspondence from and to foreign, Federal, state and local law enforcement agencies; (7) Criminal intelligence information on individuals suspected to be violating ATF laws and regulations; (8) Documentary proof of defendant's criminal record, identity, or lack of registration of National Firearms Act (N.F.A.) (as amended) firearm(s); (9) FBI Criminal Record Reports; (10) Fingerprints and palmprints; (11) Fugitive arrest warrants; (12) Handwriting exemplars; (13) Records of violations and reputation; (14) Illicit liquor and raw material surveys; (15) Laboratory reports of evidence analysis; (16) Memoranda of expected testimony of witnesses; (17) Organized crime members violating or suspected of violating ATF laws; (18) Parole and pardon reports; (19) Personal histories (address, employment, social security number, financial background, physical description, etc.); (20) Photographs; (21) Purchase of evidence records; (22) Records of electronic surveillance by ATF; (23) Records received in response to summons and subpoenas; (24) Reliefs from disability; (25) Reports of interview with witnesses; (26) Search warrants and affidavits for search warrants; (27) Seized property reports; (28) Criminal records concerning firearms, explosives and alcohol; (29) Special agent's daily activity diary (accessible by date only); (30) State and local law enforcement criminal investigative reports; (31) Statements of defendants; (32) Statements of witnesses; (33) Summons and subpoenas issued pursuant to criminal investigations; (34) Voice prints; (35) Wagering tax suspected violators; (36) Warning and demand letters; (37) Criminal violation reports (a formal report compiling all or portions of the foregoing for prosecutive purposes).

Authority for maintenance of the system:

(1) 26 U.S.C. Chapter 40; (2) 26 U.S.C. Chapter 53, as amended; (3) 26 U.S.C. Chapters 61 through 80, as amended; (4) 18 U.S.C. Chapter 40; (5) 18 U.S.C. Chapter 44; (6) 18 U.S.C. Chapter 59; (7) 18 U.S.C. Chapter 114; (8) 22 U.S.C. 227; (9) 18 U.S.C. 1952; (10) Public Law 107-296.

Purpose(s):

The purpose of this system is to suppress traffic in distilled spirits and tobacco products on which taxes have not been paid; to enforce the Federal laws relating to the illegal possession and use of firearms, destructive devices, explosives, explosive materials; and to assist Federal, state, local and foreign law enforcement agencies in reducing crime and violence.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. To appropriate federal, state, local, foreign, or tribal law enforcement authorities for law enforcement purposes—criminal, civil, or regulatory.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations in the course of an investigation to the extent necessary to obtain information pertinent to the investigation.

N. To Treasury Department, Alcohol and Tobacco Tax and Trade Bureau employees, when necessary to accomplish a Treasury Department or Department of Justice function related to this system of records.

O. To criminal or national security intelligence gathering organizations for the purpose of identifying and suppressing the activities of international and national criminals and terrorists.

P. To insurance companies making determinations regarding claims in cases where the Bureau has conducted or is conducting an arson investigation.

Q. To unions recognized as exclusive bargaining representatives in accordance with provisions contained in the Civil Service Reform Act of 1978, 5 U.S.C. 7111 and 7114.

R. To complainants and/or victims to the extent necessary to provide such persons with information and explanations concerning the progress and/or results of the investigation or case arising from the matters of which they complained and/or of which they were a victim.

Policies and practices for storing, retrieving, accessing, retaining, and disposing of records in the system:

Storage:

Active records are stored in file folders in secure filing cabinets. Inactive records are stored in file folders at Federal Records Centers. Records are also stored in electronic media.

Retrievability:

Records are retrieved by name, date of birth, social security number, other unique identifier, investigation number, serial number of firearm, or a combination of any of these; plus date and geographical location of incident giving rise to investigation.

Safeguards:

Direct access restricted to personnel in the Department of Justice in the performance of their duty. Transmitted to routine users on a need to know basis and to others upon verification of the substance and propriety of the request. Stored in lockable file cabinets in rooms locked during non-duty hours. The records stored in electronic media are password protected.

Retention and disposal:

Records are retained in accordance with General Records Schedules numbers 1 through 23 issued by the National Archives and Records Administration, and Bureau of Alcohol, Tobacco, Firearms and Explosives Records Control Schedules numbers 101 and 201 and disposed of by shredding or burning. Records on tape or on-line mass storage are disposed of by degaussing.

System manager(s) and address:

Assistant Director, Firearms Explosive & Arson; Assistant Director, Field Operations; and Assistant Director, Science & Technology, Bureau of Alcohol, Tobacco, Firearms and Explosives, 650 Massachusetts Avenue, NW., Washington, DC 20226.

Notification procedure:

See “Record access procedures” below.

Record access procedures:

For Records Accessible through the Privacy Act, mail a request in writing to the Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed and dated and either notarized or submitted under penalty of perjury. Some information may be exempt from access provisions as described in the section entitled “Exemptions claimed for the system.” An individual who is the subject of a record in this system may access those records that are not exempt from disclosure. A determination whether a record may be accessed will be made at the time a request is received.

Contesting record procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Exemptions claimed for the system.” An individual who is the subject of a record in this system may amend those records that are not exempt. A determination whether a record may be amended will be made at the time a request is received.

Record source categories:

Categories of individuals covered by the system: (1) Federal, state and local agencies; (2) witnesses; (3) employers; (4) professional organizations; (5) victims; (6) criminal offenders or alleged criminal offenders; (7) fiscal records; (8) inspection records; (9) investigation records; (10) persons having knowledge of potential criminal activity; and (11) other persons listed in “Categories of individuals covered by the system” in this notice.

Exemptions claimed for the system:

Pursuant to 5 U.S.C. 552a(j)(2), the Attorney General has exempted records in this system from subsections (c)(3) and (4), (d)(1), (2),(3) and (4), (e)(1), (2) and (3), (e)(4)(G), (H), and (I), (e)(5) and (8), (f) and (g) of the Privacy Act. Rules have been promulgated in accordance with the requirement of 5 U.S.C. 553(b), (c) and (e) and are published in today's Federal Register.

JUSTICE/ATF.006

System name:

Internal Security Record System-Justice/ATF-006.

System location:

Bureau of Alcohol, Tobacco, Firearms and Explosives, 650 Massachusetts Avenue, NW., Washington, DC 20226.

Categories of individuals covered by the system:

(1) Present employees of the Bureau of ATF; (2) Former employees of the Bureau of ATF; (3) Applicants for employment; (4) Non-Bureau employees involved in criminal acts toward Bureau employees and Bureau property; (5) Individuals who were interviewed by Internal Affairs Special Agents; (6) Contract employees.

Categories of records in the system:

(1) Records containing investigative material compiled for law enforcement purposes including information relating to: (a) Conduct of employees and contract employees; (b) Integrity of employees; (2) Records containing investigative material compiled solely for the purpose of determining suitability, eligibility, or qualifications for Federal civilian employment or access to classified information including reports relating to security clearances of employees.

Authority for maintenance of the system:

18 U.S.C. 201, Executive Order 10450, Executive Order 11222.

Purpose(s):

This system is used to assure the Bureau Director, the Department of Justice, and the public that the Bureau is taking strong and vigorous steps to maintain the highest standards of integrity, loyalty, conduct, and security among Bureau personnel and contract employees. When a criminal investigation results in a compilation of information contained in this system, the information so compiled shall be transferred to the ATF Criminal Investigation Report System and shall become a part of that system for all purposes of the Privacy Act of 1974.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations in the course of an investigation to the extent necessary to obtain information pertinent to the investigation.

N. To Treasury Department, Alcohol and Tobacco Tax and Trade Bureau employees, when necessary to accomplish a Treasury Department or Department of Justice function related to this system of records.

O. To unions recognized as exclusive bargaining representatives in accordance with provisions contained in the Civil Service Reform Act of 1978, 5 U.S.C. 7111 and 7114.

P. To complainants and/or victims to the extent necessary to provide such persons with information and explanations concerning the progress and/or results of the investigation or case arising from the matter of which they complained and/or of which they were a victim.

Q. To designated officers and employees of state or local (including the District of Columbia) law enforcement or detention agencies in connection with the hiring or continued employment of an employee or contractor, where the employee or contractor would occupy or occupies a position of public trust as a law enforcement officer or detention officer having direct contact with the public or with prisoners or detainees, to the extent that the information is relevant and necessary to the recipient agency's decision.

R. To the Office of Personnel Management, Merit Systems Protection Board, Equal Employment Opportunity Commission, Federal Labor Relations Authority, and the Office of Special Counsel for the purpose of properly administering Federal personnel systems or other agencies' systems in accordance with applicable laws, Executive Orders, and regulations.

Policies and practices for storing, retrieving, accessing, retaining, and disposing of records in the system:

Storage:

Active records stored in file folders in security filing cabinets and computer system (hard disk). Inactive records stored in file folders at Federal Records Center.

Retrievability:

Records are retrieved by name.

Safeguards:

Direct access restricted to personnel in Department of the Justice in the performance of their duty. Transmitted to routine users on a need to know basis and to others upon verification of the substance and propriety of the request. Stored in lockable metal file cabinets in rooms locked during non-duty hours.

Retention and disposal:

Records are retained in accordance with General Records Schedules Numbers 1 through 20 issued by the National Archives and Records Administration, and Bureau of Alcohol, Tobacco, Firearms and Explosives Records Control Schedules numbers 101 and 201 and disposed of by shredding or burning.

System manager(s) and address:

Assistant Director (Office of Inspection), Bureau of Alcohol, Tobacco, Firearms and Explosives, 650 Massachusetts Avenue, N.W., Washington, DC 20226.

Notification procedure:

See “Record access procedures” below.

Record access procedures:

For records accessible through the Privacy Act, address a request in writing to Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed, dated and either notarized or submitted under penalty of perjury. Some information may be exempt from access provisions as described in the section entitled “Exemptions claimed for the system.” An individual who is the subject of a record in this system may access those records that are not exempt from disclosure. A determination whether a record may be accessed will be made at the time a request is received.

Contesting record procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Exemptions claimed for the system.” An individual who is the subject of a record in this system may amend those records that are not exempt. A determination whether a record may be amended will be made at the time a request is received.

Record source categories:

Examples include: (1) Employees of this Bureau; (2) Internal Investigative report forms; (3) Witnesses; (4) Informants; (5) Federal, state and local enforcement agencies; (6) Employers; (7) Educational institutions; (8) Credit agencies; (9) Neighbors; (10) References; (11) Professional Organizations; (12) Other government agencies; (13) Claimants; (14) Victims.

Exemptions claimed for the system:

Pursuant to 5 U.S.C. 552a(k)(5) (relating to security clearances) and (k)(2) (relating to conduct and integrity), the Attorney General has exempted records in this system from subsections (c)(3), (d)(1), (2), (3) and (4), (e)(1), (e)(4)(G), (H), and (I) and (f) of the Privacy Act. Rules have been promulgated in accordance with the requirement of 5 U.S.C. 553(b), (c) and (e) and are published in today's Federal Register.

Justice/ATF-007

System name:

Personnel Record System-Justice/ATF-007

System location:

Bureau of Alcohol, Tobacco, Firearms and Explosives, 650 Massachusetts Avenue, NW., Washington, DC 20226. Components of this record system are geographically dispersed throughout the Bureau's field offices. A list of field offices is available by writing to the Chief, Disclosure Division, Room 8400, 650 Massachusetts Avenue, NW., Washington, DC 20226.

Categories of individuals covered by the system:

(1) Present Employees of the Bureau of ATF; (2) Former Employees of the Bureau of ATF; (3) Applicants for employment with ATF.

Categories of records in the system:

Records include: (1) Allotment and Dues; (2) Annual Tax Reports; (3) Applicants for employment; (4) Applications for reassignment; (5) Awards, honors, and fellowship records; (6) Classification appeal records; (7) Death claim records; (8) Educational history; (9) Employee indebtedness records; (10) Employees qualified as Grievance Examiners; (11) Employee Suggestions; (12) Employee history; (13) Employee relations case file; (14) Equal employment opportunity records; (15) Health maintenance records; (16) Insurance records; (17) Military history; (18) Occupational injuries, disabilities, and Worker's Compensation Records; (19) Official personnel folder; (20) Outside employment and identification numbers, business or professional records; (21) Outside employment; (22) Outside financial interests; (23) Overtime and/or Premium Pay records; (24) Performance evaluation records; (25) Personal history; (26) Position description records; (27) Promotion/Selection Certificates Records; (28) Property custody records; (29) Retirement records; (30) Records of security clearance; (31) Statement of career goals; (32) Supervisory or managerial potential records; (33) Temporary assignments and details; (34) Time application reports and records; (35) Training record; (36) U.S. Savings Bond participation records; (37) Upward mobility applications; (38) Vehicle accidents; (39) Withholding tax records; (40) Work schedule records; (41) Chief Counsel and Regional Counsel memoranda and opinions; (42) Government passport records.

Authority for maintenance of the system:

(1) 5 U.S.C. Chapter 29, Subchapter II; (2) 5 U.S.C. Chapters 31 and 33; (3) 5 U.S.C. Chapter 43; (4) 5 U.S.C. Chapter 45; (5) 5 U.S.C. Chapter 51; (6) 5 U.S.C. Chapter 55, subchapter III; (7) 5 U.S.C. Chapter 61; (8) 5 U.S.C. Chapter 75; (9) 5 U.S.C. Chapter 83; (10) 5 U.S.C. 301; 31 CFR 2.28; 5 CFR 550.122, 550.183; (11) 5 U.S.C. 4503; (12) 5 U.S.C. 5101-5115; (13) 5 U.S.C. 7151-7154; (14) 5 U.S.C. 7901; (15) Public Law 92-261 (Equal Employment Act of 1972); (16) Public Law 93-579; (Federal Employees Compensation Act); (17) Occupational Safety and Health Act of 1970; (18) Executive Order 10561; (19) Executive Order 11222; (20) Executive Order 11478; (21) Executive Order 11491.

Purpose(s):

The purpose of this system is to provide a source of factual data about a person's Federal employment while in the service of the Bureau of Alcohol, Tobacco, Firearms and Explosives.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations to the extent necessary to obtain relevant information needed by the Bureau to render a decision in regard to a personnel matter.

N. To Treasury Department, Alcohol and Tobacco Tax and Trade Bureau employees, when necessary to accomplish a Treasury Department or Department of Justice function related to this system of records.

O. To unions recognized as exclusive bargaining representatives in accordance with provisions contained in the Civil Service Reform Act of 1978, 5 U.S.C. 7111 and 7114.

Policies and practices for storing, retrieving, accessing, retaining, and disposing of records in the system:

Storage:

Active records are stored in file folders in security filing cabinets. Inactive records are stored in file folders at Federal Records Centers. Records are also stored in electronic media.

Retrievability:

Records are retrieved by name, date of birth, social security number, employee identification number, or a combination of any of these four.

Safeguards:

Direct access is restricted to personnel in the Department of Justice in the performance of their duty. Records are transmitted to routine users on a need to know basis or where a right to access is established, and to others upon verification of the substance and propriety of the request. These records are stored in lockable file cabinets in rooms locked during non-duty hours. The records stored in electronic media are password protected.

Retention and disposal:

Records are retained in accordance with General Records Schedules numbers 1 through 23 issued by the National Archives and Records Administration, and Bureau of Alcohol, Tobacco, Firearms and Explosives Records Control Schedules numbers 101 and 201 and disposed of by shredding, burning or by degaussing.

System manager(s) and address:

Assistant Director, Office of Science and Technology; Assistant Director, Public and Governmental Affairs; and Assistant Director, Management/Chief Financial Officer, Bureau of Alcohol, Tobacco, Firearms and Explosives, 650 Massachusetts Avenue, NW., Washington, DC 20226.

Notification procedure:

See “Record access procedures” below.

Record access procedures:

For records accessible through the Privacy Act, mail a request in writing to the Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed, dated, and either notarized or submitted under penalty of perjury. Some information may be exempt from access provisions as described in the section entitled “Exemptions claimed for the system.” An individual who is the subject of a record in this system may access those records that are not exempt from disclosure. A determination whether a record may be accessed will be made at the time a request is received.

Contesting record procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Exemptions claimed for the system.” An individual who is the subject of a record in this system may amend those records that are not exempt. A determination whether a record may be amended will be made at the time a request is received.

Record source categories:

Examples include: (1) Administrative Records; (2) Applicants for employment with the Bureau; (3) Acquaintances; (4) Business and professional associates; (5) Creditors; (6) Criminal records; (7) Educational Institutions attended; (8) Employee records; (9) Equal Employment Opportunity Commission; (10) Financial institutions; (11) Fiscal records; (12) Former employees; (13) Former employers; (14) Inspection records; (15) Internal investigation reports; (16) Internal Revenue Service; (17) Military records; (18) Outside employers; (19) Physicians; (20) Police reports; (21) Position classification specialists; (22) Psychiatrists; (23) References; (24) Supervisors; (25) Training officers; (26) Unions, accredited; (27) Office of Personnel Management; (28) Witnesses.

Exemptions claimed for the system:

Pursuant to 5 U.S.C. 552a(k)(5) the Attorney General has exempted records in this system from subsections (c)(3), (d)(1), (2), (3) and (4), (e)(1), (e)(4)(G), (H), and (I) and (f) of the Privacy Act. Rules have been promulgated in accordance with the requirement of 5 U.S.C. 553(b), (c) and (e) and are published in today's Federal Register.

JUSTICE/ATF-008

System name:

Regulatory Enforcement Record System—Justice/ATF-008.

System location:

Bureau of Alcohol, Tobacco, Firearms and Explosives, 650 Massachusetts Avenue, NW., Washington, DC 20226. Components of this system of records are also geographically dispersed throughout ATF's district and field offices. A list of field offices is available by writing to the Chief, Disclosure Division, Room 8400, 650 Massachusetts Avenue, NW., Washington, DC 20226.

Categories of individuals covered by the system:

Individuals who have been issued permits or licenses, have filed applications with ATF, have registered with ATF, or are responsible persons or employees of a licensee or permittee to the extent that the records concern private individuals or entrepreneurs, including, but not limited to: (a) Explosives licensees, employees and responsible persons; (b) Claimants for refund of taxes; (c) Federal Firearms Licenses, employees and responsible persons (d) Collectors of firearms or ammunition; (e) Importers of firearms or ammunition, and (f) Users of explosive materials.

Categories of records in the system:

Records containing investigative material compiled for law enforcement purposes which may consist of the following: (1) Abstracts of offers in compromise; (2) Administrative law judge decisions; (3) Assessment records: (a) notices of proposed assessments, (b) notices of shortages or losses, (c) notices to IRS to assess taxes, (d) recommendation for assessments, (4) Claim records: (a) claims; (b) letters of claim rejection; (c) sample reports; (d) supporting data; (e) vouchers and schedules of payment; (5) Comments on proposed rulemakings; (6) Complaints from third parties; (7) Correspondence concerning records in this system and related matters; (8) Financial statements; (9) Inspection and investigation reports; (10) Joint demands on principals and sureties for payment of excise tax liabilities; (11) Letters of reprimand; (12) Lists of permittees and licensees; (13) Lists of officers, directors and principal stockholders; (14) Mailing lists and addressograph plates; (15) Notices of delinquent reports; (16) Offers in compromise; (17) Operation records: (a) operating reports, (b) reports of required inventories, (c) reports of thefts or losses of firearms, (d) reports of thefts of explosive materials, (e) transaction records, (f) transaction reports; (18) Orders of revocation, suspension or annulment of permits or licenses; (19) District and Chief Counsel opinions and memoranda; (20) Reports of violations; (21) Permit status records; (22) Qualifying and background records: (a) access authorizations, (b) advertisement records, (c) applications, (d) bonds, (e) business histories, (f) criminal records, (g) diagrams of premises, (h) educational histories, (i) employment histories, (j) environmental records, (k) financial data, (l) formula approvals, (m) label approvals, (n) licenses, (o) notices, (p) permits, (q) personal references, (r) plant profiles, (s) plant capacities, (t) plats and plans, (u) registrations, (v) sample reports, (w) signature authorities, (x) special permissions and authorizations, (y) statements of process; (23) Show cause orders; (24) Tax records: (a) control cards relating to periodic payment and prepayment of taxes, (b) excise and special tax returns, (c) notices of tax discrepancy or adjustment.

Authority for maintenance of the system:

(1) 26 U.S.C. 7011; (2) 18 U.S.C. 923(a); (3) 18 U.S.C. 923(b); (4) 18 U.S.C. 843(a); (5) 22 U.S.C. 2278; (6) 26 U.S.C. 6001; (7) 26 U.S.C. 6011(a); (8) 26 U.S.C. 6201; (9) 26 U.S.C. 7122; (10) 18 U.S.C. 843(d); (11) 18 U.S.C. 923(f); (12) Pub. L. 107-296.

Purpose(s):

The purpose of this system is to determine suitability, eligibility or qualifications of individuals who are engaged or propose to engage in activities regulated by ATF; achieve compliance with laws under ATF's jurisdiction; interact with Federal, state and local governmental agencies in the resolution of problems relating to industrial development, revenue protection, public health, ecology, and other areas of joint jurisdictional concern. When a criminal investigation results in a compilation of information contained in this system of records, the information shall be transferred to the Justice/ATF—Criminal Investigation Report System and shall become part of that system for all purposes of the Privacy Act of 1974.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations to the extent necessary to obtain or verify information pertinent to the Bureau's decision to grant, deny or revoke a license or permit, or pertinent to an ongoing investigation.

N. To Treasury Department, Alcohol and Tobacco Tax and Trade Bureau employees, when necessary to accomplish a Treasury Department or Department of Justice function related to this system of records.

O. To national and international intelligence gathering organizations for the purpose of identifying international and national criminals involved in consumer fraud, revenue evasion or crimes.

Policies and practices for storing, retrieving, accessing, retaining, and disposing of records in the system:

Storage:

Records are stored in file folders in filing cabinets and in electronic media.

Retrievability:

Records are retrieved by name, permit or license number, by document locator number, or by employer identification number (EIN).

Safeguards:

Direct access restricted to personnel in the Department of Justice in the performance of their duty. Transmitted to routine users on a need to know basis and others upon verification of the substance and propriety of the request. Stored in file cabinets in rooms locked during non-duty hours. The records stored in electronic media are password protected.

Retention and disposal:

Records are retained in accordance with General Records Schedules numbers 1 through 20 issued by the National Archives and Records Administration, and Bureau of Alcohol, Tobacco, Firearms and Explosives Records Control Schedules numbers 101 and 201 and disposed of by shredding, burning or by degaussing.

System manager(s) and address:

Assistant Director, Firearms Explosive & Arson; Field Operations; and Assistant Director, Science & Technology, Bureau of Alcohol, Tobacco, Firearms and Explosives, 650 Massachusetts Avenue, NW., Washington, DC 20226.

Notification procedure:

See “Record access procedures” below.

Record access procedures

For Records Accessible through the Privacy Act, mail a written request to the Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed, dated, and either notarized or submitted under penalty of perjury. Some information may be exempt from access provisions as described in the section entitled “Exemptions claimed for the system.” An individual who is the subject of a record in this system may access those records that are not exempt from disclosure. A determination whether a record may be accessed will be made at the time a request is received.

Contesting record procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Exemptions claimed for the system.” An individual who is the subject of a record in this system may amend those records that are not exempt. A determination whether a record may be amended will be made at the time a request is received.

Record source categories:

Examples include: (1) Acquaintances; (2) Bureau personnel; (3) Business and professional associates; (4) Creditors; (5) Criminal records; (6) Financial institutions; (7) Former employers; (8) Internal Revenue Service; (9) Military records; (10) Physicians; (11) Psychiatrists; (12) References; (13) Police reports; (14) Witnesses; (15) Federal law enforcement agencies; (16) State law enforcement agencies; (17) Local law enforcement agencies; (18) State regulatory agencies; (19) Federal regulatory agencies; (20) Local regulatory agencies; (21) Chief Counsel's opinions; (22) Regional Counsel's opinions; (23) Chief Counsel's memoranda; (24) Regional Counsel's memoranda; (25) Field investigation reports; (26) Third parties.

Exemptions claimed for the system:

Pursuant to 5 U.S.C. 552a(k)(2), the Attorney General has exempted records in this system from subsections (c)(3), (d)(1), (2), (3) and (4), (e)(1), (e)(4)(G), (H), and (I) and (f) of the Privacy Act. Rules have been promulgated in accordance with the requirement of 5 U.S.C. 553(b), (c) and (e) and are published in today's Federal Register.

JUSTICE/ATF-009

System name:

Technical and Scientific Services Record System Justice/ATF-009.

System location:

Bureau of Alcohol, Tobacco, Firearms and Explosives, 650 Massachusetts Avenue, NW., Washington, DC 20226. Components of this record system are geographically dispersed throughout Bureau of Alcohol, Tobacco, Firearms and Explosives' field offices. A list of field offices is available by writing to the Chief, Disclosure Division, Room 8400, 650 Massachusetts Avenue, NW., Washington, DC 20226.

Categories of individuals covered by the system:

Individuals covered may include: (1) Applicants to register firearms under the National Firearms Act; (2) Importers of implements of war as defined under the Mutual Security Act of 1954 and the Arms Export Control Act of 1976; (3) Licensed importers registered under the Mutual Security Act of 1954 and the Arms Export Control Act of 1976; (4) Manufacturers of National Firearms Act firearms that are exempt from payment of Special (Occupational) tax provisions; (5) Non-Bureau chemists certified to make analysis of alcoholic beverages; (6) Persons involved in explosives tagging and detection program; (7) Registered owners of National Firearms Act firearms; (8) Special (Occupational) taxpayers as defined under Title II of the Gun Control Act of 1968; (9) Victims of explosives; (10) Individuals involved in Government funded research projects.

Categories of records in the system:

Records may include: (1) Alteration records of registered National Firearms Act firearms; (2) Applications to register firearms and destructive devices under the National Firearms Act; (3) Applications to import articles on the United States Munitions list; (4) Blueprints; (5) Certifications of payment of Special (occupational) tax payments; (6) Changes of address for owner of firearms registered under the National Firearms Act; (7) Claims for erroneous Special (Occupational) taxes payments; (8) Descriptions of Inventions; (9) Delinquency notices regarding proof of importation of National Firearms Act firearms; (10) Explosive reports; (11) Non-Bureau chemists' statements of qualification; (12) Patent information; (13) Registrations of firearms and destructive devices under the National Firearms Act; (14) Registration of war trophy firearms; (15) Requests and authorizations for temporary movement and/or temporary storage of National Firearms Act firearms; (16) Technical and scientific data; (17) Transaction records concerning National Firearms Act firearms; (18) Trade secrets; (19) United States Government contracts to manufacturers of National Firearms Act firearms; (20) Chief Counsel and Regional Counsel memoranda and opinions.

Authority for maintenance of the system:

(1) 18 U.S.C. Chapter 40; (2) 18 U.S.C. Chapter 44; (3) 26 U.S.C. 6001(a); (4) 26 U.S.C. 6201; (5) 26 U.S.C. 7011; (6) Executive Order 11958; (7) Public Law 107-296.

Purpose(s):

The purpose of this system is to provide technical, investigative and scientific support and expertise to Criminal and Regulatory Enforcement activities of the Bureau; to other Federal, state, local and foreign law enforcement agencies; and to provide scientific support and expertise to those industries involved in activities regulated by the Bureau. When a criminal investigation results in a compilation of information contained in this system, the information so compiled shall be transferred to the Justice/ATF—Criminal Investigation Report System and shall become a part of that system for all purposes of the Privacy Act of 1974.

Routine uses of records maintained in the system, including categories of users and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations to the extent necessary to obtain or verify information pertinent to the Bureau's decision to grant, deny, or revoke a license or permit, or pertinent to an ongoing investigation.

N. To Treasury Department, Alcohol and Tobacco Tax and Trade Bureau employees, when necessary to accomplish a Treasury Department or Department of Justice function related to this system of records.

O. To insurance companies making determinations regarding claims in cases where the Bureau has conducted or is conducting an arson investigation.

P. To national and international intelligence gathering organizations for the purpose of identifying international and national criminals involved in consumer fraud, revenue evasion or crimes.

Policies and practices for storing, retrieving, accessing, retaining, and disposing of records in the system:

Storage:

Records are stored in file folders and in electronic media.

Retrievability:

Records are retrieved by name, by other unique identifier, control number, serial number of National Firearms Act firearms.

Safeguards:

Records are stored in file cabinets locked during non-duty hours. The records stored in electronic media are password protected.

Retention and disposal:

Records are retained in accordance with General Records Schedules numbers 1 through 20 issued by the National Archives and Records Administration, and Bureau of Alcohol, Tobacco, Firearms and Explosives Records Control Schedules numbers 101 and 201 and disposed of by shredding or burning. Records stored on tape discs or on-line mass storage are disposed of by degaussing.

System manager(s) and address:

Assistant Director, Firearms Explosive & Arson; Assistant Director, Field Operations; and Assistant Director, Science & Technology, Bureau of Alcohol, Tobacco, Firearms and Explosives, 650 Massachusetts Avenue, NW., Washington, DC 20226.

Notification procedure:

See “Record access procedures” below.

Record access procedures:

If records are accessible through the Privacy Act, mail a written request to the Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed, dated, and either notarized or submitted under penalty of perjury. Some information may be exempt from access provisions as described in the section entitled “Exemptions claimed for the system.” An individual who is the subject of a record in this system may access those records that are not exempt from disclosure. A determination whether a record may be accessed will be made at the time a request is received.

Contesting record procedures:

Individuals desiring to contest or amend information maintained in the system should direct their request according to the Record Access procedures listed above, stating clearly and concisely what information is being contested, the reasons for contesting it, and the proposed amendment to the information sought. Some information is not subject to amendment, such as tax return information. Some information may be exempt from contesting record procedures as described in the section entitled “Exemptions claimed for the system.” An individual who is the subject of a record in this system may amend those records that are not exempt. A determination whether a record may be amended will be made at the time a request is received.

Record source categories:

Examples include: (1) Individuals; (2) Companies; (3) Corporations; (4) Firearms Licensees; (5) Explosive Licensees; (6) Explosive Permittees; (7) Bureau personnel; (8) Federal law enforcement agencies; (9) State law enforcement agencies; (10) Local law enforcement agencies; (11) Foreign law enforcement agencies; (12) Federal Regulatory agencies; (13) State Regulatory agencies; (14) Local Regulatory agencies; (15) Non-Bureau Chemists.

Exemptions claimed for the system:

Pursuant to 5 U.S.C. 552a(k)(2), the Attorney General has exempted records in this system from subsections (c)(3), (d)(1), (2),(3) and (4), (e)(1), (e)(4)(G), (H), and (I) and (f) of the Privacy Act. Rules have been promulgated in accordance with the requirement of 5 U.S.C. 553(b), (c) and (e) and are published in today's Federal Register.

JUSTICE/ATF-010

System name:

Training and Professional Development Record System-Treasury/ATF-010.

System location:

Bureau of Alcohol, Tobacco, Firearms and Explosives, 650 Massachusetts Avenue, NW., Washington, DC 20226. Components of this record system are geographically dispersed throughout the Bureau's field offices. A list of field offices is available by writing to the Chief, Disclosure Division, 650 Massachusetts Avenue, NW., Washington, DC 20226.

Categories of individuals covered in the system:

Non-ATF individuals applying for ATF training and/or professional development; those instructors for ATF training and/or professional development; possible emergency contacts and/or supervisors' names are collected from the trainee.

Categories of records in the system:

Records may include: (a) Name, (b) office address, (c) telephone number, (d) fax number, (e) social security information, (f) firearms qualifications, (g) eligibility of instructors, (h) certifications held by instructors, (i) courses previously taught by instructors, (j) home address, date of birth, (k) position title, (l) length of time in public service, (m) time on current assignment, number of years in current position, (n) name and telephone number of immediate supervisor, (o) education experience, (p) related occupational experience, (q) blood type, (r) military experience, (s) law enforcement experience, (t) description of duties and responsibilities, (u) internet address, (v) pager number, (w) smoking preference, (x) Chief Counsel and Regional Counsel memoranda and opinions, and (y) other information as needed or required for training or instructor determination or safety.

Authority for maintenance of the system:

5 U.S.C. 4104; Executive Order No. 11348 as amended by Executive Order No. 12107 (1978).

Purpose(s):

The purpose of this system is to provide basic data about ATF instructors and those trained by ATF.

Routine uses of records maintained in the system, including categories of users, and the purposes of such uses:

A record in this system may be disclosed as a routine use:

A. To a Member of Congress or staff acting upon the Member's behalf when the Member or staff requests the information on behalf of, and at the request of, the individual who is the subject of the record.

B. To contractors, grantees, experts, consultants, students, and others performing or working on a contract, service, grant, cooperative agreement, or other assignment for the federal government, when necessary to accomplish an agency function related to this system of records.

C. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

D. To officials and employees of a federal agency or entity, including the White House, which requires information relevant to a decision concerning the hiring, appointment, or retention of an employee; the issuance of a security clearance; the execution of a security or suitability investigation; the classification of a job; or the issuance of a grant or benefit.

E. In an appropriate proceeding before a court or administrative or regulatory body when records are determined by the Department of Justice to be arguably relevant to the proceeding.

F. To an actual or potential party to litigation or the party's authorized representative for the purpose of negotiation or discussion on such matters as settlement, plea bargaining, or in informal discovery proceedings.

G. To the news media and the public pursuant to 28 CFR 50.2 unless it is determined that release of the specific information in the context of a particular case would constitute an unwarranted invasion of personal privacy.

H. To federal, state, and local licensing agencies or associations, which require information concerning the suitability or eligibility of an individual for a license or permit.

I. To the General Services Administration and National Archives and Records Administration in records management inspections conducted under the authority of 44 U.S.C. 2904 and 2906.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To such recipients and under such circumstances and procedures as are mandated by federal statute or treaty.

L. To an organization or individual in either the public or private sector where there is reason to believe the recipient is or could become the target of a particular criminal activity or conspiracy, to the extent the information is relevant to the protection of life or property.

M. To individuals and organizations to the extent necessary to verify their qualifications or eligibility for training.

N. To Treasury Department, Alcohol and Tobacco Tax and Trade Bureau employees, when necessary to accomplish a Treasury Department or Department of Justice function related to this system of records.

O. To unions recognized as exclusive bargaining representatives in accordance with provisions contained in the Civil Service Reform Act of 1978, 5 U.S.C. 7111 and 7114.

Policies and practices for storing, retrieving, accessing, retaining, and disposing of records in the system:

Storage:

Paper records are stored in security filing cabinets. Records are also stored in electronic media.

Retrievability:

Records are retrieved by name, agency and/or office location, social security number or any of the above.

Safeguards:

Paper records are kept in locked filing cabinets in locked rooms during non-business hours. Electronic media records are password protected.

Retention and disposal:

Records are retained in accordance with General Records Schedules numbers 1 through 23 issued by the National Archives and Records Administration, and the Bureau of Alcohol, Tobacco, Firearms and Explosives Control Schedules number 101 and 201 and disposed of by shredding, burning or by degaussing.

System manager(s) and address:

Assistant Director, Training and Professional Development, Bureau of Alcohol, Tobacco, Firearms and Explosives, 650 Massachusetts Avenue, NW., Washington, DC 20226.

Notification procedure:

See “Record access procedures” below.

Record access procedures:

For records accessible through the Privacy Act, mail a request in writing to the Disclosure Division, Privacy Act Request, Bureau of Alcohol, Tobacco, Firearms and Explosives, 650 Massachusetts Avenue, NW., Washington, DC 20226, with the envelope and the letter clearly marked “Privacy Access Request.” The request should include a general description of the records sought and must include the requester's full name, current address, and date and place of birth. The request must be signed and dated and either notarized or submitted under penalty of perjury.

Contesting record procedures:

Individuals desiring to contest or amend information maintained in the system should direct their request according to the Record Access procedures listed above, stating clearly and concisely what information is being contested, the reasons for contesting it, and the proposed amendment to the information sought. Some information is not subject to amendment, such as tax return information.

Record source categories:

Examples include: Administrative records, applications submitted by non-ATF individuals seeking ATF training and applications submitted by instructors.

Exemptions Claimed for the system:

None.

[FR Doc. 03-1576 Filed 1-23-03; 8:45 am]

BILLING CODE 4410-FB-P